DEPARTMENT OF HEALTH AND HUMAN SERVICES

Administration for Children and Families

[CFDA#: 93.601]

Deviation From Competition To Award a Single-Source Program Expansion Supplement From the Office of Child Support Enforcement to the Community Services for Children, Inc.

AGENCY: Office of Child Support Enforcement, ACF, HHS.

ACTION: Notice.

SUMMARY: Notice is hereby given that a program expansion supplement in the amount of $99,227 is being award to the Community Services for Children, Incorporated CSC) by the Office of Child Support Enforcement (OCSE). CSC has requested additional funds and a one-year extension to build on the success of its program by offering the Family Formation and Development Project (FFDP) to 40 additional unwed, low-income couples.

The current project has shown promising results. During the past two years CSC has administered a successful Special Improvement Project (SIP) project. It has served 40 couples, meeting all stated objectives. The project serves only unwed couples with children. The majority of these families are Hispanic and are enrolled in Head Start and Early Head Start programs to ensure comprehensive family services.

CSC's objectives are:

• To improve family formation and development including marriage as a choice. CSC will provide an 8-week family formation and development course called “Healthy Relationship and Marriage Education” to 40 low-income, unwed couples with children in Head Start or Early Head Start programs.

• To promote stable families. CSC will present through course materials, other resources and home visits, information on the long-term benefits of two-parent families on the health and success of their children.

• To increase awareness of the importance of providing financial and medical support of children. CSC will collaborate with the Office of Child Support Enforcement to provide training and referral on the benefits of paternity establishment and child support services.

Section 452(j) of the Social Security Act, 42 U.S.C. 652(j), provides Federal funds for information dissemination and technical assistance to States, training of Federal and State staff to improve child support programs, and research, demonstration, and special projects of regional or national significance relating to the operation of State child support enforcement programs.

FOR FURTHER INFORMATION CONTACT: Ms. Susan Greenblatt, Deputy Director, Division of State, Tribal and Local Assistance, Office of Child Support Enforcement, 202-401-4849, sgreenblatt@acf.hhs.gov.

Dated: May 2, 2005.
David Siegel,
Acting Commissioner, Office of Child Support Enforcement.

[FR Doc. 05-9124 Filed 5-5-05; 8:45 am]

BILLING CODE 4184-01-P